DEPARTMENT OF LABOR

Employment and Training Administration

[NAFTA-03963]

Sagaz Industries, Inc., Miami, Florida; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on June 20, 2000, applicable to workers of Sagaz Industries, Inc., Miami, Florida. The notice was published in the Federal Register on June 29, 2000 (65 FR 40136).

At the request of the State agency, the Department reviewed the certification for workers of the subject firm. The workers are engaged in the production of car seat covers. New information provided by the company shows that workers separated from employment at Sagaz Industries, Inc. had their wages reported under a separate unemployment insurance (UI) tax account, ADP Total Services, Miami, Florida.

Accordingly, the Department is amending the certification to properly reflect this matter.

The intent of the Department's certification is to include all workers of Sagaz Industries, Inc. adversely affected by imports from Mexico.

The amended notice applicable to NAFTA-03963 is hereby issued as follows:

All workers of the Sagaz Industries, Inc., Miami, Florida, including those receiving their compensation through ADP Total Services, Miami, Florida, who became totally or partially separated from employment on or after March 31, 1999 through June 20, 2002 are eligible to apply for NAFTA-TAA under Section 250 of the Trade Act of 1974.

Signed at Washington, D.C., this 17th day of July, 2000.
Grant D. Beale,
Program Manager, Division of Trade Adjustment Assistance.

[FR Doc. 00-19411 Filed 7-31-00; 8:45 am]

BILLING CODE 4510-30-M